DEPARTMENT OF THE INTERIOR

National Park Service

[N6417; NPS-WASO-NAGPRA-NPS0040823; PPWOCRADN0-PCU00RP14.R50000]

Notice of Intended Repatriation: Kalamazoo Valley Museum, Kalamazoo, MI

AGENCY: National Park Service, Interior.

ACTION: Notice.

SUMMARY: In accordance with the Native American Graves Protection and Repatriation Act (NAGPRA), the Kalamazoo Valley Museum intends to repatriate certain cultural items that meet the definition of sacred objects/objects of cultural patrimony and that have a cultural affiliation with the Indian Tribes or Native Hawaiian organizations in this notice.

DATES: Repatriation of the cultural items in this notice may occur on or after September 15, 2025.

ADDRESSES: Send additional, written requests for repatriation of the cultural items in this notice to Regina Gorham, Collections Manager for the Kalamazoo Valley Museum, 230 N Rose Street, Kalamazoo, MI 49007, email rgorham@kvcc.edu.

SUPPLEMENTARY INFORMATION: This notice is published as part of the National Park Service's administrative responsibilities under NAGPRA. The determinations in this notice are the sole responsibility of the Kalamazoo Valley Museum, and additional information on the determinations in this notice, including the results of consultation, can be found in the summary or related records. The National Park Service is not responsible for the determinations in this notice.

Abstract of Information Available

A total of 17 cultural items have been requested for repatriation. The 17 sacred objects/objects of cultural patrimony are baskets. The donor of the objects is Albert May Todd (A.M. Todd). A.M. Todd was a wealthy entrepreneur known for his success in the mint oil industry and for his extensive travels and collecting. After establishing his business in Kalamazoo in 1891, he began traveling primarily to Europe, where he amassed a vast and eclectic collection of art and cultural artifacts. His interests included European paintings, pottery, Native American art, and antiquities from Ancient Rome and Egypt. On one trip alone, he returned with 30,000 pounds of art. Todd displayed his collection publicly in his downtown offices and throughout Kalamazoo in schools and other institutions, driven by a belief that art and culture should be accessible to all—though his collecting reflected the Eurocentric and colonialist views of his time. Many items were shared informally with institutions before being officially donated, and upon his death in 1931, his collection was distributed across schools, colleges, museums, and libraries in Michigan. Preliminary identification of region was done by Martha Spaeth in 1973.

Determinations

The Kalamazoo Valley Museum has determined that:

• The 17 sacred objects/objects of cultural patrimony described in this notice are, according to the Native American traditional knowledge of an Indian Tribe or Native Hawaiian organization, specific ceremonial objects needed by a traditional Native American religious leader for present-day adherents to practice traditional Native American religion, and have ongoing historical, traditional, or cultural importance central to the Native American group, including any constituent sub-group (such as a band, clan, lineage, ceremonial society, or other subdivision).

• There is a connection between the cultural items described in this notice and the Tejon Indian Tribe.

Requests for Repatriation

Additional, written requests for repatriation of the cultural items in this notice must be sent to the authorized representative identified in this notice under ADDRESSES. Requests for repatriation may be submitted by any lineal descendant, Indian Tribe, or Native Hawaiian organization not identified in this notice who shows, by a preponderance of the evidence, that the requestor is a lineal descendant or a culturally affiliated Indian Tribe or Native Hawaiian organization.

Repatriation of the cultural items in this notice to a requestor may occur on or after September 15, 2025. If competing requests for repatriation are received, the Kalamazoo Valley Museum must determine the most appropriate requestor prior to repatriation. Requests for joint repatriation of the cultural items are considered a single request and not competing requests. The Kalamazoo Valley Museum is responsible for sending a copy of this notice to the Indian Tribes and Native Hawaiian organizations identified in this notice and to any other consulting parties.

Authority: Native American Graves Protection and Repatriation Act, 25 U.S.C. 3004 and the implementing regulations, 43 CFR 10.9.

Dated: August 5, 2025.
Melanie O'Brien,
Manager, National NAGPRA Program.

[FR Doc. 2025-15408 Filed 8-13-25; 8:45 am]

BILLING CODE 4312-52-P